DEPARTMENT OF HEALTH AND HUMAN SERVICES

42 CFR Part 36

Meeting of the Negotiated Rulemaking Committee on Joint Tribal and Federal Self-Governance

Correction

In proposed rule document 01-3569 beginning on page 10182 in the issue of Tuesday, February 13, 2001, make the following correction:

On page 10182, in the third column, in the file line, the filing time “12:25am” should read “10:25am”.

[FR Doc. C1-3569 Filed 2-20-01; 8:45 am]

BILLING CODE 1505-01-D

OFFICE OF PERSONNEL MANAGEMENT

5 CFR Part 731

RIN 3206-AC19

Suitability

Correction

In rule document 00-33114 beginning on page 82239 in the issue of Thursday, December 28, 2000, make the following correction:

1. On page 82240, in the first column, in the third full paragraph, in the last line, remove “under section available”.

§731.301 [Corrected]

2. On page 82246, in the first column, in §731.301(b), “means” should read “mean”.

§731.304 [Corrected]

3. On page 82246, in the second column, in §731.304, in the ninth line, “subpart DE” should read “subpart E”.

[FR Doc. C0-33114 Filed 2-20-01; 8:45 am]

BILLING CODE 1505-01-D